DEPARTMENT OF ENERGY

Federal Energy Regulatory Commission

[Project No. 12569-001]

Public Utility District No. 1 of Okanogan County, WA, Notice of Availability of Final Environmental Assessment

In accordance with the National Environmental Policy Act of 1969 and the Federal Energy Regulatory Commission's (Commission or FERC's) regulations, 18 Code of Federal Regulations (CFR) part 380 (Order No. 486, 52 Federal Register [FR] 47897), the Office of Energy Projects has reviewed the Public Utility District No. 1 of Okanogan County's (Okanogan PUD's) application for license for the Enloe Hydroelectric Project (FERC Project No. 12569), located on the Similkameen River near the city of Oroville in Okanogan County, Washington. Part of the project would occupy a total of 41.76 acres of federal lands administered by the U.S. Bureau of Land Management.

Staff prepared this final environmental assessment (EA), which analyzes the potential environmental effects of licensing the project, and concludes that licensing the project, with appropriate environmental protective measures, would not constitute a major federal action that would significantly affect the quality of the human environment.

A copy of the final EA is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, 202-502-8659.

You may also register online at http://www.ferc.gov/docs-filing/esubscription.asp to be notified via e-mail of new filings and issuances related to this or other pending projects. For assistance, contact FERC Online Support.

For further information, contact Kim Nguyen by telephone at (202) 502-6105, or by e-mail at kim.nguyen@ferc.gov.

Dated: August 31, 2011.
Kimberly D. Bose,
Secretary.

[FR Doc. 2011-22818 Filed 9-6-11; 8:45 am]

BILLING CODE 6717-01-P